FEDERAL HOUSING FINANCE BOARD

Sunshine Act Meeting Notice: Change in Date of Open Meeting

Federal Register citation of previous announcement: 69 FR 5986, February 9, 2004.

CHANGE OF MEETING TIMES AND DATE: The open meeting of the Board of Directors, originally scheduled for 10 a.m. on February 11, 2004, is now scheduled to begin at 10 a.m. on Wednesday, February 18, 2004.

FOR FURTHER INFORMATION CONTACT: Mary Gottlieb, Paralegal Specialist, Office of General Counsel, by telephone at 202/408-2826 or by electronic mail at gottliebm@fhfb.gov.

Dated: February 12, 2004.
By the Federal Housing Finance Board.
John Harry Jorgenson,
General Counsel.

[FR Doc. 04-3439 Filed 2-12-04; 12:25 pm]

BILLING CODE 6725-01-P